DEPARTMENT OF DEFENSE

Department of the Army

Corps of Engineers; Notice of Availability for the Draft Environmental Impact Statement/Environmental Report (EIS/EIR) for the Pier J South Maine Terminal Expansion Project, Los Angeles County, CA

AGENCY: U.S. Army Corps of Engineers, DoD.

ACTION: Notice of availability.

SUMMARY: The U.S. Army Corps of Engineers, Regulatory Branch, in coordination with the Port of Long Beach, has completed a Draft EIS/EIR for the Pier J South Maine Terminal Expansion Project. The Port Long Beach requires authorization pursuant to section 404 of the Clean Water Act and section 10 of the Rivers and Harbors act for 115 acres of landfill in three phases, dredging up to 10,000,000 cubic yards of sediment, construction of a new concrete pile-supported wharf, new terminal buildings and a new rail yard.

FOR FURTHER INFORMATION CONTACT: Questions or comments concerning the Draft EIS/EIR should be directed to Dr. Aaron O. Allen, Project Manager, Regulatory Branch, U.S. Army Corps of Engineers, P.O. Box 532711, Los Angeles, California, 90053-2325, (213) 452-3413.

SUPPLEMENTARY INFORMATION: None.

Luz D. Ortiz,
Army Federal Register Liaison Officer.

[FR Doc. 01-13665 Filed 5-30-01; 8:45 am]

BILLING CODE 3710-KF-M